DEPARTMENT OF TRANSPORTATION

Federal Motor Carrier Safety Administration

[FMCSA-2013-0171]

Qualification of Drivers; Exemption Applications; Vision

AGENCY: Federal Motor Carrier Safety Administration (FMCSA), DOT.

ACTION: Notice of denials.

SUMMARY: FMCSA announces its denial of 91 applications from individuals who requested an exemption from the Federal vision standard applicable to interstate truck and bus drivers and the reasons for the denials. FMCSA has statutory authority to exempt individuals from the vision requirement if the exemptions will provide a level of safety that is equivalent to or greater than the level of safety maintained without the exemptions. The Agency has concluded that granting these individuals an exemption would not achieve the required level of safety.

FOR FURTHER INFORMATION CONTACT: Elaine M. Papp, Chief, Medical Programs Division, 202-366-4001, U.S. Department of Transportation, FMCSA, 1200 New Jersey Avenue SE., Room W64-224, Washington, DC 20590-0001. Office hours are from 8:30 a.m. to 5 p.m. Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to or greater than the level that would be achieved absent such an exemption.” The procedures for requesting an exemption are set forth in 49 CFR part 381.

Accordingly, FMCSA evaluated 91 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following 15 applicants had no experience operating a CMV:

Daniel S. Billig

Christopher Delo

Alan Dorantes

Deborah S. Ford

Rebecca L. Jenson

Christopher M. Kelly

Alex M. Long

Charles McDonald

Kenneth C. Mead

Abdelkhaleq R. Muhammad

Eduardo Nunez

Michael J. Sawlville

Richard Seidel

Kyle Smith

Kirk C. Ward

The following 23 applicants did not have 3 years of experience driving a CMV on public highways with their vision deficiencies:

Gordon T. Anderson

Amanuel W. Behon

John Bertelle

Devon W. Bivens

Vernie W. Bochmann

Larry Brown

Larry E. Carter

Eric Cherry

Donald Darling

David Dibbs

Everett H. Fuller

Tom Gibson

Joshua A. Holcombe

Christopher A. Johnson

Thomas R. Lease

Collin C. Longacre

Jason McKinney

Michael L. Mueting

Steven D. Nelson

Steven S. Smith, Jr.

Kyle L. Souza

Kyle M. Wallace

Ricky W. Woods

The following 3 applicants did not have 3 years of recent experience driving a CMV with the vision deficiency:

Roy Duncan

Edmond Harold

John M. Munroe

The following applicant, Dawson Smith, did not have sufficient driving experience during the past 3 years under normal highway operating conditions.

The following 2 applicants had their commercial driver's license suspended during the 3-year review period for moving violations. Applicants do not qualify for an exemption with a suspension during the 3-year period:

Buck J. Barney

Charles R. Edwards

The following applicant, Victor A. Jorge, did not have verifiable proof of commercial driving experience over the past 3 years under normal highway operating conditions that would serve as an adequate predictor of future safe performance.

The following applicant, James C. Reed, Jr., was unable to obtain a statement from an optometrist or ophthalmologist stating that he was able to operate a commercial vehicle from a vision standpoint.

The following 15 applicants were denied for miscellaneous/multiple reasons:

Anthony Bartel

Ricky A. Bruens

DeAndre Bryan

Robert S. Buckwalter

John R. Freeman

George H. Harrison

Tim Hollenback

Darrel J. Karpowicz

Jason S. Klepp

Mark H. Schneewind

Brian R. Smith

Glenn Snowberger

Drake M. Vendsel

James E. Wilkes, III

Willard C. Wilson

The following applicant, Don R. Alexander, was denied because he never submitted the required documents.

The following 11 applicants met the current federal vision standards. Exemptions are not required for applicants who meet the current regulations for vision:

Bryan L. Adkins

Charles J. Clay, Jr.

Michael W. Doig

Jonathan E. Edwards

Shane B. Henninger

Kevin Hesson

Aldric L. Jones

Fernando Polanco

Francisca M. Rhodes

Ronald F. Simpson

Russel P. Worl

The following 12 applicants were denied because they will not be driving interstate, interstate commerce, or not required to carry a DOT medical card:

Pasco Anderson

Steven K. Bain

William C. Braaten

Stanley Chaskey

Keith Dowty

Richard B. Grove

Richard Hazelwood

Wilton F. Marine

James B. McCullough

Gary D. Morgan

Michael Nishida-Llanes

Dennis C. Welpe

Finally, the following 6 applicants perform transportation for the federal government, state, or any political sub-division of the state.

Michael Newhouse

Donald C. Schmitt

Ronnie L. Pruitt

Denish L. McQueen

Jimmy J. Thornton

Sharon McDaniel

Issued on: December 16, 2013.
Larry W. Minor,
Associate Administrator for Policy.

[FR Doc. 2013-30720 Filed 12-23-13; 8:45 am]

BILLING CODE 4910-EX-P